ENVIRONMENTAL PROTECTION AGENCY

[EPA-HQ-OPPT-2018-0320; FRL-11655-02-OCSPP]

Toxic Substances Control Act (TSCA) Review of CBI Claims for the Identity of Chemicals in the TSCA Inventory; Extension of Review Period

AGENCY: Environmental Protection Agency (EPA).

ACTION: Notice.

SUMMARY: The Environmental Protection Agency (EPA or Agency) is announcing the extension of the review period for Confidential Business Information (CBI) claims for specific identities of all active chemical substances listed on the confidential portion of the Toxic Substances Control Act (TSCA) Inventory submitted to the EPA under TSCA. EPA has determined that a further extension of the statutory review period for the review of CBI claims under TSCA is necessary to allow the Agency to complete the required reviews under TSCA.

DATES: The review period is extended to February 19, 2026.

ADDRESSES: The docket for this action, identified by docket identification (ID) number EPA-HQ-OPPT-2018-0320, is available online at https://www.regulations.gov. Additional instructions for visiting the docket, along with more information about dockets generally, is available at https://www.epa.gov/dockets.

FOR FURTHER INFORMATION CONTACT:

For technical information: Jessica Barkas, Project Management and Operations Division (7401), Office of Pollution Prevention and Toxics, Environmental Protection Agency, 1200 Pennsylvania Ave. NW, Washington, DC 20460-0001; telephone number: (202) 250-8880; email address: barkas.jessica@epa.gov.

For general information: The TSCA-Hotline, ABVI-Goodwill, 422 South Clinton Ave., Rochester, NY 14620; telephone number: (202) 554-1404; email address: TSCA-Hotline@epa.gov.

SUPPLEMENTARY INFORMATION:

I. Does this action apply to me?

You may be affected by this action if you submitted a Notice of Activity Form A to EPA under TSCA section 8(b)(4) and 40 CFR part 710, subpart B and asserted any CBI claims concerning the specific identities of the chemical substances you reported. Persons who seek information on such submissions may also be affected by this action. The following list of North American Industrial Classification System (NAICS) codes is not intended to be exhaustive, but rather provides a guide to help readers determine whether this document applies to them. Potentially affected entities may include:

• Manufacturers, importers, or processors of chemical substances (NAICS codes 325 and 324110), e.g., chemical manufacturing and petroleum refineries.

If you have any questions regarding the applicability of this action to a particular entity, consult the technical contact person listed under FOR FURTHER INFORMATION CONTACT.

II. What is the Agency's authority for taking this action?

TSCA authorizes the extension of the Review Plan deadline in TSCA section 8(b)(4)(E)(ii)(I), 15 U.S.C. 2607(b)(4)(E)(ii)(I).

III. What action is the Agency taking?

EPA is announcing to the public that it is further extending an Agency review deadline pursuant to the authority in TSCA section 8(b)(4)(E)(ii)(I), 15 U.S.C. 2607(b)(4)(E)(ii)(I). The additional time is necessary to complete the reviews given the volume of submissions that require review, information technology issues, insufficient resources and other legal and administrative delays that have affected the review process. EPA previously extended the review period by one year, to February 19, 2025 (89 FR 4605, January 24, 2024 (FRL-11655-01-OCSPP)). As discussed in that document, EPA has evaluated its progress toward completing the requirements for the Agency to review CBI substantiations outlined in the final rule titled “Procedures for Review of CBI Claims for the Identity of Chemicals in the TSCA Inventory” (Review Plan rule), (85 FR 13062, March 6, 2020 (FRL-10005-48)) and has concluded that a further one year extension will be necessary to complete the Review Plan reviews.

IV. What is the TSCA Review Plan?

Pursuant to TSCA section 8(b), EPA finalized the Review Plan rule establishing, inter alia, the Agency's plan for reviewing all active TSCA Inventory CBI claims concerning specific chemical identities that had been made in Active-Inactive rule reporting taking place in 2017 and 2018 (see 40 CFR part 710, subparts B (Commercial Activity Notification) and C (Review Plan)). Consistent with TSCA section 8(b)(4)(E)(i), which allows a five-year period for these reviews following compilation of an initial list of active substances, the reviews were targeted for completion by February 19, 2024 (see 40 CFR 710.55(d). Since finalizing the Review Plan rule, however, EPA has encountered issues that have prevented meeting this original target. These issues and/or their effects persist to the present, making meeting the extended target of February 19, 2025, impossible. Consequently, consistent with TSCA section 8(b)(4)(E)(ii)(I) and 40 CFR 710.55(e), which permit EPA to extend the review period by up to two years, EPA is further extending the target review completion date until February 19, 2026.

Several issues and factors caused delays that prevented EPA from completing its review within the five-year period (and are going to prevent completion within the previous one-year extension). These issues are described in more detail in the document at 89 FR 4605-4606, but include a large universe of claims to review (more than 4,805 chemical substances in 5,787 often-complex submissions) and concurrent activities to update the public portion of the TSCA Inventory, consistent with the requirements of TSCA sections 8(b) and 14. Also, adapting and maintaining the Agency's information technology (IT) systems to complete these reviews has continued to contribute to delays in reviewing these CBI claims. The size (i.e. very large file size) and other features of certain submissions caused IT difficulties that halted the CBI review process for about nine months while available resources were prioritized to address more critical IT needs. A lack of requested appropriated funds in FY24 and FY25 resulted in insufficient contract resources to address IT system issues in addition to not allowing EPA to maintain the necessary staffing level to make progress on these reviews. Finally, EPA was delayed in commencing Review Plan reviews for approximately six months to a year as a result of the decision of the U.S. Court of Appeals for the District of Columbia Circuit in Environmental Defense Fund v. EPA, 922 F.3d 446 (D.C. Cir. 2019), which resulted in a need for additional rulemaking activity to add a reporting requirement. The additional reporting requirement created confusion among some reporting entities, further slowing the review process.

These issues and factors together justify extending the review period deadline by a total of two years, consistent with TSCA section 8(b)(4)(E)(ii)(I).

Authority: 15 U.S.C. 2607(b).

Dated: December 20, 2024.
Michal Freedhoff,
Assistant Administrator, Office of Chemical Safety and Pollution Prevention.

[FR Doc. 2024-31291 Filed 1-3-25; 8:45 am]

BILLING CODE 6560-50-P